DEPARTMENT OF ENERGY

Basic Energy Sciences Advisory Committee

AGENCY: Office of Science, Department of Energy.

ACTION: Notice of open meeting.

SUMMARY: This notice announces a meeting of the Basic Energy Sciences Advisory Committee (BESAC). The Federal Advisory Committee Act requires that public notice of these meetings be announced in the Federal Register.

DATES:

Thursday, March 19, 2020; 9:00 a.m. to 5:00 p.m.

Friday, March 20, 2020; 8:30 a.m. to 11:30 a.m.

ADDRESSES: Bethesda North Marriott Hotel and Conference Center, 5701 Marinelli Drive, Rockville, MD 20852.

FOR FURTHER INFORMATION CONTACT: Katie Runkles; Office of Basic Energy Sciences; U.S. Department of Energy; Germantown Building, 1000 Independence Avenue SW, Washington, DC 20585; Telephone: (301) 903-6529; email: katie.runkles@science.doe.gov.

SUPPLEMENTARY INFORMATION: Purpose of the Committee: The purpose of this committee is to make recommendation to DOE-Office of Science with respect to the basic energy sciences research program.

Tentative Agenda:

• Call to Order, Introductions, Review of the Agenda

• News from the Office of Science

• News from the Office of Basic Energy Sciences

• Neutron Subcommittee Update

• International Benchmarking Study Update

• Chemical Sciences, Geosciences and Biosciences Division COV Meeting Announcement

• Energy Frontier Research Centers/Hub COV Meeting Announcement

• Basic Research Needs Workshop on Transformative Manufacturing Update

• Public Comments

• Adjourn

Breaks Taken As Appropriate

Public Participation: The meeting is open to the public. If you would like to file a written statement with the Committee, you may do so either before or after the meeting. If you would like to make oral statements regarding any of the items on the agenda, you should contact Katie Runkles at katie.runkles@science.doe.gov. Reasonable provision will be made to include the scheduled oral statements on the agenda. The Chairperson of the Committee will conduct the meeting to facilitate the orderly conduct of business. Public comment will follow the 10-minute rule. Information about the committee can be found at: https://science.osti.gov/bes/besac.

Minutes: The minutes of this meeting will be available for public review and copying within 30 days at the Committee's website: https://science.osti.gov/bes/besac.

Signed in Washington, DC, on February 11, 2020.
LaTanya Butler,
Deputy Committee Management Officer.

[FR Doc. 2020-03038 Filed 2-13-20; 8:45 am]

BILLING CODE 6450-01-P